FEDERAL COMMUNICATIONS COMMISSION

47 CFR Part 73

[DA 22-525; MB Docket No. 21-502; FR ID 87802]

Radio Broadcasting Services; Snowflake, Arizona; Millerton, Oklahoma; Powers, Oregon; Mount Enterprise and Paint Rock, Texas; Hardwick, Vermont; and Meeteetse, Wyoming

AGENCY: Federal Communications Commission.

ACTION: Final rule.

SUMMARY: This document amends the FM Table of Allotments, of the Commission's rules, by removing Channel 265C2 at Millerton, Oklahoma; Channel 293C2 at Powers, Oregon; Channel 279A at Mount Enterprise, Texas; Channel 296C3 at Paint Rock, Texas; Channel 290A at Hardwick, Vermont; and Channel 259C at Meeteetse, Wyoming. All of these allotments were offered in previous FM auctions and received no bids. We will not delete Channel 259C2 at Snowflake, Arizona, because Estrella Broadcasting LLC filed a bona fide expression of interest.

DATES: Effective May 24, 2022.

FOR FURTHER INFORMATION CONTACT: Rolanda F. Smith, Media Bureau, (202) 418-2700.

SUPPLEMENTARY INFORMATION: This is a synopsis of the Commission's Order, adopted May 11, 2022 and released May 13, 2022. The full text of this Commission decision is available online at https://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the adopted rule is a rule of particular applicability.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336 and 339.

2. In § 73.202, amend table 1 to paragraph (b) by:

a. Revising the entry for “Millerton” under Oklahoma;

b. Revising the entry for “Powers” under Oregon;

c. Revising the entries for “Mount Enterprise” and “Paint Rock” under Texas;

d. Revising the entry for “Hardwick” under Vermont; and

e. Revising the entry for “Meeteetse” under Wyoming.

The revisions read as follows:

§ 73.202 Table of Allotments.

* * * * *

(b) * * *

Table 1 to Paragraph (b)
U.S. States | Channel No.
Oklahoma
* * * * *
Millerton
* * * * *
Oregon
* * * * *
Powers
* * * * *
Texas
* * * * *
Mount Enterprise
* * * * *
Paint Rock
* * * * *
Vermont
Hardwick
* * * * *
Wyoming
* * * * *
Meeteetse
* * * * *

* * * * *

[FR Doc. 2022-10964 Filed 5-23-22; 8:45 am]

BILLING CODE 6712-01-P